DEPARTMENT OF AGRICULTURE

Grain Inspection, Packers and Stockyards Administration

Designation for the Owensboro, KY; Bloomington, IL; Iowa Falls, IA; Casa Grande, AZ; Fargo, ND; Grand Forks, ND; and Plainview, TX Areas

AGENCY: Grain Inspection, Packers and Stockyards Administration, USDA.

ACTION: Notice.

SUMMARY: GIPSA is announcing the designation of the following organizations to provide official services under the United States Grain Standards Act, as amended (USGSA): J. W. Barton Grain Inspection Service, Inc. (Barton); Central Illinois Grain Inspection, Inc. (Central Illinois); Central Iowa Grain Inspection Service, Inc. (Central Iowa); Farwell Commodity and Grain Services, Inc. (Farwell Southwest); North Dakota Grain Inspection Service, Inc. (North Dakota); Northern Plains Grain Inspection Service, Inc. (Northern Plains); and Plainview Grain Inspection and Weighing Service, Inc. (Plainview).

DATES: Effective Date: April 1, 2011.

ADDRESSES: Karen W. Guagliardo, Branch Chief, Review Branch, Compliance Division, GIPSA, USDA, STOP 3604, Room 1647-S, 1400 Independence Avenue, SW., Washington, DC 20250-3604.

FOR FURTHER INFORMATION CONTACT: Karen W. Guagliardo, 202-720-8262 or Karen.W.Guagliardo@usda.gov.

Read Applications: All applications and comments will be available for public inspection at the office above during regular business hours (7 CFR 1.27(c)).

SUPPLEMENTARY INFORMATION: In the August 30, 2010, Federal Register (75 FR 52925), GIPSA requested applications for designation to provide official services in the geographic areas presently serviced by the agencies named above. Applications were due by September 29, 2010.

Barton, Central Illinois, Central Iowa, Farwell Southwest, North Dakota, Northern Plains, and Plainview were the sole applicants for designations to provide official services in these areas. As a result, GIPSA did not ask for additional comments.

GIPSA evaluated all available information regarding the designation criteria in section 7(f)(l) of the USGSA (7 U.S.C. 79(f)) and determined that Barton, Central Illinois, Central Iowa, Farwell Southwest, North Dakota, Northern Plains, and Plainview are qualified to provide official services in the geographic areas specified in the August 30, 2010, Federal Register for which they applied. These designation actions to provide official services in the specified areas are effective April 1, 2011 and will terminate on March 31, 2014.

Interested persons may obtain official services by contacting these agencies at the following telephone numbers:

Official agency | Headquarters location and telephone | Designation start | Designation end
Barton | Owensboro, KY (270) 683-0616 | 4/1/2011 | 3/31/2014
Central Illinois | Bloomington, IL (309) 827-7121 | 4/1/2011 | 3/31/2014
Central Iowa | Iowa Falls, IA (641) 648-3467 | 4/1/2011 | 3/31/2014
| Additional Location: Alden, IA
Farwell Southwest | Farwell, TX (520) 421-1027 | 4/1/2011 | 3/31/2014
North Dakota | Fargo, ND (701) 293-7420 | 4/1/2011 | 3/31/2014
| Additional Locations: Taylor, ND; Ayr, ND; Teutopolis, IL; Cahokia, IL; Wayne City, IL; Enderlin, ND; Hillsboro, ND
Northern Plains | Grand Forks, ND (701) 772-2414 | 4/1/2011 | 3/31/2014
Plainview | Plainview, TX (806) 893-1364 | 4/1/2011 | 3/31/2014

Section 7(f)(1) of the USGSA authorizes GIPSA's Administrator to designate a qualified applicant to provide official services in a specified area after determining that the applicant is better able than any other applicant to provide such official services (7 U.S.C. 79 (f)(1)).

Under section 7(g)(1) of the USGSA, designations of official agencies are effective for no longer than 3 years unless terminated by the Secretary; however, designations may be renewed according to the criteria and procedures prescribed in section 7(f) of the Act.

Authority: 7 U.S.C. 71—87k.

J. Dudley Butler,
Administrator, Grain Inspection, Packers and Stockyards Administration.

[FR Doc. 2011-6592 Filed 3-21-11; 8:45 am]

BILLING CODE 3410-KD-P